DEPARTMENT OF JUSTICE

Notice of Lodging of Consent Decree Pursuant to the Clean Water Act

In accordance with 28 CFR § 50.7, 38 FR 19029, notice is hereby given that on March 10, 2004, a Consent Decree was lodged with the United States District Court for the District of Massachusetts in United States v. Massachusetts Bay Transportation Authority, Civil Action No. 04CV10481-MEL. A complaint in the action was also filed simultaneously with the lodging of the Consent Decree. In the complaint the United States, on behalf of the U.S. Environmental Protection Agency (“EPA”), alleges that the defendant Massachusetts Bay Transportation Authority (“MBTA”) violated the Clean Water Act, 33 U.S.C. 1251, et seq., (“CWA”) and Clean Air Act, 42 U.S.C. 7412, at several facilities owned and operated by the defendant. The violations alleged in the complaint include discharges of process waste water without a permit; violations of EPA storm water permitting requirements; and violations of 310 C.M.R. § 7.11(1)(b), the bus idling regulations. The consent decree requires MBTA to pay a civil penalty of $328,274; achieve compliance with applicable provisions of the CWA and CWA; expend at least $1,000,000 on supplemental environmental projects; and undertake compliance audits and an environmental management systems audit with respect to the defendants' Massachusetts facilities.

The Department of Justice will receive comments relating to the proposed Consent Decree for a period of thirty (30) days from the date of this publication. Comments should be addressed to the Assistant Attorney General, Environment and Natural Resources Division, Department of Justice, P.O. Box 7611, Washington, DC 20044, and should refer to United States v. Massachusetts Bay Transportation Authority, D.J. Ref. 90-5-1-1-07029.

The proposed consent decree may be examined at the office of the United States Attorney, Suite 9200, 1 Courthouse Way, Boston, Massachusetts 02110, and at the Region I office of the Environmental Protection Agency, One Congress Street, Suite 1100, Boston, Massachusetts 02114. During the public comment period, the Consent Decree may also be examined on the following Department of Justice Web Site, “http:www.usdoj.gov/enrd/open.html”. A copy of the proposed consent decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy, please enclose a check (there is a 25 cent per page reproduction cost) in the amount of $25.50 payable to the U.S. Treasury.

Ronald G. Gluck,
Assistant Chief, Environmental Enforcement Section, Environment & Natural Resources Division.

[FR Doc. 04-6636 Filed 3-24-04; 8:45 am]

BILLING CODE 4410-15-M